DEPARTMENT OF LABOR

Employment and Training Administration

[TA-W-50,074]

Summit Manufacturing, LLC, West Hazelton, PA; Notice of Negative Determination Regarding Application for Reconsideration

By application of February 25, 2003, a petitioner requested administrative reconsideration of the Department's negative determination regarding eligibility for workers and former workers of the subject firm to apply for Trade Adjustment Assistance (TAA). The denial notice was signed on February 3, 2003 and published in the Federal Register on February 24, 2003 (68 FR 8619).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Summit Manufacturing, LLC, West Hazelton, Pennsylvania engaged in the production of steel telecommunications poles, steel pole modifications, cellular poles, sign and lighting poles, and flag poles was denied because the “contributed importantly” group eligibility requirement of Section 222(3) of the Trade Act of 1974, as amended, was not met. The “contributed importantly” test is generally demonstrated through a survey of the workers' firm's customers. The Department conducted a survey of the subject firm's major customers regarding their purchases of steel telecommunications poles, steel pole modifications, cellular poles, sign and lighting poles, and flag poles in 2000, 2001 and 2002. None of the respondents reported increasing imports while decreasing purchases from the subject firm during the relevant period. Imports did not contribute importantly to layoffs at the subject firm.

The petitioner alleges that the imports of steel, especially from Canada increased from 2001 to 2002.

Imports of steel are not “like or directly competitive” with the products produced (steel telecommunications poles, steel pole modifications, cellular poles, sign and lighting poles, and flag poles) by the subject plant, thus this allegation is not relevant to the investigation.

The petitioner's request for reconsideration further states that the investigation took longer than the 40 days required to complete the investigation and, because of this, the workers of the subject plant should be certified.

The Department makes every effort to conduct a TAA investigation within the prescribed 40 day period. A review of the initial investigation shows that the responses by the company and customers took longer than normal. The Department bases its findings on facts after it receives all requested data necessary in order to make an accurate decision, regardless of timeframes.

Conclusion

After review of the application and investigative findings, I conclude that there has been no error or misinterpretation of the law or of the facts which would justify reconsideration of the Department of Labor's prior decision. Accordingly, the application is denied.

Signed in Washington, DC, this 18th day of March 2003.
Edward A. Tomchick,
Director, Division of Trade Adjustment Assistance.

[FR Doc. 03-8352 Filed 4-4-03; 8:45 am]

BILLING CODE 4510-30-P